COMMISSION ON CIVIL RIGHTS

Sunshine Act Notice

Date and Time: Friday, August 18, 2006, 9:30 a.m., Commission Meeting.

Place: U.S. Commission on Civil Rights, 624 Ninth Street, NW., Rm. 540, Washington, DC 20425.

Status:

Agenda

I. Approval of Agenda

II. Approval of Minutes of July 28, Meeting

III. Announcements

IV. Staff Director's Report

V. Program Planning

• Record Items for the Briefing on Benefits of Diversity in Elementary and Secondary Education.

• Outline and Discovery Plan for FY 2007 Statutory Enforcement Report on Elementary and Secondary School Desegregation.

• Anti-Semitism Brochure.

VI. Management and Operations

• Strategic Plan Performance Measures.

• Memorandum of Understanding With Thurgood Marshall Library.

VII. State Advisory Committee Issues

• Acting Chair for Maine State Advisory Committee.

• Re-Charter Package for California State Advisory Committee.

• Re-Charter Package for Georgia State Advisory Committee.

VIII. Closed Meeting To Discuss Personnel Matters

IX. Future Agenda Items

X. Adjourn

CONTACT PERSON FOR FURTHER INFORMATION: Audrey Wright, Office of the Staff Director, (202) 376-7700.

David P. Blackwood,
General Counsel.

[FR Doc. 06-6891 Filed 8-9-06; 11:36 am]

BILLING CODE 6335-01-M